DEPARTMENT OF HOMELAND SECURITY

Coast Guard

33 CFR Part 117

[Docket No. USCG-2015-0109]

Drawbridge Operation Regulations; Hackensack River, Jersey City, NJ

AGENCY: Coast Guard, DHS.

ACTION: Notice of deviation from drawbridge regulation.

SUMMARY: The Coast Guard has issued a temporary deviation from the operating schedule that governs the operation of the Port Authority Trans-Hudson (PATH) railroad bridge across the Hackensack River, mile 3.0, at Jersey City, New Jersey. This deviation is necessary to allow the bridge owner to replace rails and ties at the bridge. This deviation allows the bridge to remain closed on Saturday and Sunday for twenty six consecutive weekends.

DATES: This deviation is effective from April 4, 2015 through September 27, 2015.

ADDRESSES: The docket for this deviation, [USCG-2015-0109] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC, 20590, between 9 a.m. and 5 p.m., Monday through Friday, except Federal holidays.

FOR FURTHER INFORMATION CONTACT: If you have questions on this temporary deviation, call or email Mr. Joe M. Arca, Project Officer, First Coast Guard District, telephone (212) 514-4336, joe.m.arca@uscg.mil. If you have questions on viewing the docket, call Cheryl Collins, Program Manager, Docket Operations, telephone (202) 366-9826.

SUPPLEMENTARY INFORMATION: The PATH railroad bridge across the Hackensack River, mile 3.0, at Jersey City, New Jersey, has a vertical clearance in the closed position of 40 feet at mean high water and 45 feet at mean low water. The existing bridge operating regulations are found at 33 CFR 117.723.

The waterway is transited by seasonal recreational vessels and commercial vessels of various sizes.

The bridge owner, Port Authority Trans-Hudson (PATH), requested a temporary deviation from the normal operating schedule to facilitate structural repairs, replacement of the rails and ties, at the bridge.

Under this temporary deviation, the PATH railroad bridge may remain in the closed position for twenty six weekends, between 12:01 a.m. on Saturdays through 12:01 a.m. on Mondays from April 4, 2015 through September 27, 2015.

There are no alternate routes for vessel traffic; however, the vertical clearance at the bridge is 40 feet at mean high water and 45 feet at mean low water, which should allow most vessels that normally transit this bridge to pass under the closed draws during this repair period. The bridge may be opened in the event of an emergency.

The Coast Guard will inform the users of the waterways through our Local and Broadcast Notice to Mariners of the change in operating schedule for the bridges so that vessels can arrange their transits to minimize any impact caused by the temporary deviation.

In accordance with 33 CFR 117.35(e), the drawbridge must return to its regular operating schedule immediately at the end of the effective period of this temporary deviation. This deviation from the operating regulations is authorized under 33 CFR 117.35.

Dated: February 23, 2015.
C.J. Bisignano,
Supervisory Bridge Management Specialist, First Coast Guard District.

[FR Doc. 2015-05809 Filed 3-12-15; 8:45 am]

BILLING CODE 9110-04-P